DEPARTMENT OF HOMELAND SECURITY

U.S. Customs and Border Protection

DEPARTMENT OF THE TREASURY

19 CFR Part 12

[CBP Dec. 24-02]

RIN 1515-AE88

Extension and Amendment of Import Restrictions on Archaeological and Ecclesiastical Ethnological Materials of Bulgaria

AGENCY: U.S. Customs and Border Protection, Department of Homeland Security; Department of the Treasury.

ACTION: Final rule.

SUMMARY: This document amends the U.S. Customs and Border Protection (CBP) regulations to reflect the extension and modification of import restrictions on certain archaeological and ecclesiastical ethnological material of Bulgaria. The Assistant Secretary for Educational and Cultural Affairs, United States Department of State, has made the requisite determinations for extending and modifying the import restrictions originally imposed by CBP Dec. 14-01, and amended by CBP Decision 19-01. The restrictions are being extended through January 14, 2029. The CBP regulations are being amended to reflect these changes. The Designated List of materials to which the restrictions apply is published below.

DATES: Effective January 14, 2024.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (the Convention), allows for the conclusion of an agreement between the United States and another party to the Convention to impose import restrictions on eligible archaeological and ethnological materials. Under the CPIA and applicable U.S. Customs and Border Protection (CBP) regulations, found in section 12.104 of title 19 of the Code of Federal Regulations (19 CFR 12.104), the restrictions are effective for no more than five years beginning on the date on which an agreement enters into force with respect to the United States (19 U.S.C. 2602(b)). This period may be extended for additional periods, each extension not to exceed five years, if it is determined that the factors justifying the initial agreement still pertain and no cause for suspension of the agreement exists (19 U.S.C. 2602(e); 19 CFR 12.104g(a)).

On January 14, 2014, the United States entered into a memorandum of understanding (2014 MOU) with the Republic of Bulgaria (Bulgaria), concerning the imposition of import restrictions on certain categories of archaeological and ecclesiastical ethnological material of Bulgaria. On January 16, 2014, CBP published a final rule, CBP Dec. 14-01, in the Federal Register (79 FR 2781) to reflect the imposition of restrictions on this material, including a list designating the types of archaeological and ecclesiastical ethnological materials covered by the restrictions. Consistent with the requirements of 19 U.S.C. 2602(b) and 19 CFR 12.104g, these restrictions were effective for a period of five years, through January 14, 2019.

The import restrictions were subsequently extended in accordance with 19 U.S.C. 2602(e) and 19 CFR 12.104g(a). On January 8, 2019, the United States entered into a superseding memorandum of understanding (2019 MOU) with Bulgaria to extend the import restrictions. Accordingly, CBP published a final rule, CBP Dec. 19-01, in the Federal Register (84 FR 112) amending 19 CFR 12.104g(b) to extend the import restrictions and correct an inconsistency in the 2014 MOU listing the ecclesiastical ethnological material as ranging in date from A.D. 681 rather than as listed in the Designated List as from the beginning of the 4th century A.D.

On May 19, 2023, the United States Department of State published a proposal to extend and amend the 2019 MOU, in the Federal Register (88 FR 32265). On November 7, 2023, after considering the views and recommendations of the Cultural Property Advisory Committee, the Acting Assistant Secretary for Educational and Cultural Affairs, United States Department of State, made the determinations necessary to extend and amend the 2019 MOU. Following an exchange of diplomatic notes, the United States Department of State and the Ministry of Foreign Affairs of the Republic of Bulgaria have agreed to amend the 2019 MOU, and extend the restrictions for an additional five-year period, through January 14, 2029.

Accordingly, CBP is amending 19 CFR 12.104g(a) to reflect the extension of the import restrictions and amendment of the Designated List of cultural property described in CBP Dec. 14-01 and revised by CBP Dec. 19-01. The amendments include the expansion of dates for archaeological and ecclesiastical ethnological material, corrections to minor inconsistencies in the Designated List in CBP Dec. 19-01, and explicit clarification that wood is covered by import restrictions on archaeological organic materials. The restrictions on the importation of archaeological and ecclesiastical ethnological material will be in effect through January 14, 2029. Importation of such material of Bulgaria, as described in the Designated List below, will be restricted through that date unless the conditions set forth in 19 U.S.C. 2606 and 19 CFR 12.104c are met.

The Designated List includes archaeological and ecclesiastical ethnological material. Archaeological material ranges in date from approximately 1.6 million years ago through approximately A.D. 1750. Ecclesiastical ethnological material ranges in date from the beginning of the 4th century A.D. through approximately A.D. 1900. For the reader's convenience, CBP is reproducing the Designated List contained in CBP Dec. 14-01 and last revised by CBP Dec. 19-01 in its entirety, with the changes discussed herein.

The list is divided into the following categories of objects:

I. Archaeological Material

A. Stone

B. Metal

C. Ceramic

D. Bone, Ivory, Horn, Wood, and other Organics

E. Glass and Faience

F. Paintings

G. Mosaics

II. Ecclesiastical Ethnological Material

A. Stone

B. Metal

C. Ceramic

D. Bone and Ivory Objects

E. Wood

F. Glass

G. Textile

H. Parchment

I. Painting

J. Mosaics

The Designated List and additional information may also be found at the following website address: https://eca.state.gov/cultural-heritage-center/cultural-property-advisory-committee/current-import-restrictions by selecting the material for “Bulgaria.”

Designated List of Archeological and Ecclesiastical Ethnological Material of Bulgaria

The bilateral agreement between the United States and Bulgaria includes, but is not limited to, the categories of objects described in the designated list set forth below. These categories of objects are subject to the import restrictions set forth above, in accordance with the above explained applicable law and the regulation amended in this document (19 CFR 12.104g(a)).

The import restrictions cover complete examples of objects and fragments thereof.

The archaeological materials represent the following periods and cultures: Paleolithic, Neolithic, Chalcolithic, Bronze Age, Iron Age, Thracian, Hellenistic, Roman, Middle Ages, First Bulgarian Empire, Byzantine, Second Bulgarian Empire, and Ottoman. The ecclesiastical ethnological materials represent the following periods and cultures: Middle Ages, First Bulgarian Empire, Byzantine, Second Bulgarian Empire, Ottoman, and Third Bulgarian State. Ancient place names associated with the region of Bulgaria include Odrysian Kingdom, Thrace, Thracia, Moesia Inferior, Moesia Superior, Coastal Dacia, Inner Dacia, Rhodope, Haemimontus, Europa, Bulgaria, and Eyalet of Rumeli.

I. Archaeological Material

The categories of Bulgarian archaeological objects on which import restrictions are imposed were made from approximately 1.6 million years ago through approximately A.D. 1750.

A. Stone

1. Sculpture

a. Architectural Elements—In marble, limestone, gypsum, and other kinds of stone. Types include acroterion, antefix, architrave, base, capital, caryatid, coffer, column, crowning, fountain, frieze, pediment, pilaster, mask, metope, mosaic and inlay, jamb, tile, triglyph, tympanum, basin, and wellhead.

Approximate date: First millennium B.C. to A.D. 1750.

b. Monuments—In marble, limestone, granite, sandstone, and other kinds of stone. Types include, but are not limited to, votive statues, funerary, documentary, votive stelae, military columns, herms, stone blocks, bases, and base revetments. These may be painted, carved with borders, carry relief sculpture, and/or carry dedicatory, documentary, official, or funerary inscriptions, written in various languages including Thracian, Proto-Bulgarian, Greek, Latin, Hebrew, Turkish, and Bulgarian.

Approximate date: First millennium B.C. through A.D. 1750.

c. Sarcophagi and Ossuaries—In marble, limestone, and other kinds of stone. Some have figural scenes painted on them, others have figural scenes carved in relief, and some are plain or just have decorative moldings.

Approximate date: Third millennium B.C. through A.D. 1750.

d. Large Statuary—Primarily in marble, also in limestone and sandstone. Subject matter includes human and animal figures and groups of figures in the round. Common types are large-scale, free-standing statuary from approximately 1 m to 2.5 m in height and life-size busts (head and shoulders of an individual).

Approximate date: Third millennium B.C. through A.D. 1750.

e. Small Statuary and Figurines—In marble and other stone. Subject matter includes human and animal figures and groups of figures in the round. These range from approximately 10 cm to 1 m in height.

Approximate date: Paleolithic through A.D. 1750.

f. Reliefs—In marble and other stone. Types include carved relief vases and slabs carved with subject matter such as a horseman, vegetative, floral, or decorative motifs, sometimes inscribed. Used for architectural decoration, funerary, votive, or commemorative monuments.

Approximate date: Third millennium B.C. through A.D. 1750.

g. Furniture—In marble and other stone. Types include tables, thrones, and beds.

Approximate date: Third millennium B.C. through A.D. 1750.

2. Vessels—In marble, steatite, rock crystal, and other stone. These may belong to conventional shapes such as bowls, cups, jars, jugs, and lamps, or may occur in the shape of a human or animal, or part of a human or animal.

Approximate date: Neolithic through A.D. 1750.

3. Tools, Instruments, and Weapons—In flint, quartz, obsidian, and other hard stones. Types of stone tools include large and small blades, borers, scrapers, sickles, awls, harpoons, cores, loom weights, and arrow heads. Ground stone types include grinders (e.g., mortars, pestles, millstones, whetstones), choppers, axes, hammers, moulds, and mace heads.

Approximate date: Paleolithic through A.D. 1750.

4. Seals and Beads—In marble, limestone, and various semiprecious stones including rock crystal, amethyst, jasper, agate, steatite, and carnelian. May be incised or cut as gems or cameos.

Approximate date: Paleolithic through A.D. 1750.

B. Metal

1. Sculpture

a. Large Statuary—Primarily in bronze, including fragments of statues. Subject matter includes human and animal figures, and groups of figures in the round. Common types are large-scale, free-standing statuary from approximately 1 m to 2.5 m in height and life-size busts (head and shoulders of an individual).

Approximate date: Fifth millennium B.C. through A.D. 1750.

b. Small Statuary and Figurines—Subject matter includes human and animal figures, groups of figures in the round, masks, plaques, and bronze hands of Sabazios. These range from approximately 10 cm to 1 m in height.

Approximate date: First millennium B.C. through Roman.

c. Reliefs—In gold, bronze, or lead. Types include burial masks, leaves, and appliqué with images of gods, mythical creatures, etc.

Approximate date: First millennium B.C. through Roman.

d. Inscribed or Decorated Sheet Metal—In bronze or lead. Engraved inscriptions, “military diplomas,” and thin metal sheets with engraved or impressed designs often used as attachments to furniture.

Approximate date: First millennium B.C. through A.D. 1750.

2. Vessels—In bronze, gold, and silver. Bronze may be gilded or silver-plated. These may belong to conventional shapes such as bowls, cups, jars, jugs, strainers, cauldrons, candelabras, and lamps, or may occur in the shape of a human or animal or part of a human or animal.

Approximate date: Fifth millennium B.C. through A.D. 1750.

3. Personal Ornaments—In copper, bronze, gold, and silver. Bronze may be gilded or silver-plated. Types include torques, rings, beads, pendants, belts, belt buckles, belt ends/appliqués, earrings, ear caps, diadems, spangles, straight and safety pins, necklaces, mirrors, wreaths, cuffs, pectoral crosses, and beads.

Approximate date: Fifth millennium B.C. through A.D. 1750.

4. Tools—In copper, bronze, and iron. Types include knives, hooks, weights, axes, scrapers (strigils), trowels, keys, dies for making coins, and the tools of physicians and artisans such as carpenters, masons, and metal smiths.

Approximate date: Fifth millennium B.C. through A.D. 1750.

5. Weapons and Armor—In copper, bronze, and iron. Types include both launching weapons (harpoons, spears, and javelins) and weapons for hand-to-hand combat (swords, daggers, battle axes, rapiers, maces etc.). Armor includes body armor, such as helmets, cuirasses, shin guards, and shields, and horse armor/chariot decorations often decorated with elaborate engraved, embossed, or perforated designs.

Approximate date: Fifth millennium B.C. through A.D. 1750.

6. Seals—In lead, tin, copper, bronze, silver, and gold. Types include rings, amulets, stamps, and seals with shank. They pertain to individuals, kings, emperors, patriarchs, and other spiritual leaders.

Approximate date: Bronze Age through A.D.1750.

7. Coins—In copper, bronze, silver, and gold. Many of the listed coins with inscriptions in Greek can be found in B. Head, Historia Numorum: A Manual of Greek Numismatics (London, 1911) and C.M. Kraay, Archaic and Classical Greek Coins (London, 1976). Many of the Roman provincial mints in modern Bulgaria are covered in I. Varbanov, Greek Imperial Coins I: Dacia, Moesia Superior, Moesia Inferior (Bourgas, 2005), id., Greek Imperial Coins II: Thrace (from Abdera to Pautalia) (Bourgas, 2005), id., Greek Imperial Coins III: Thrace (from Perinthus to Trajanopolis), Chersonesos Thraciae, Insula Thraciae, Macedonia (Bourgas 2007). A non-exclusive list of pre-Roman and Roman mints includes Mesembria (modern Nesembar), Dionysopolis (Balchik), Marcianopolis (Devnya), Nicopolis ad Istrum (near Veliko Tarnovo), Odessus (Varna), Anchialus (Pomorie), Apollonia Pontica (Sozopol), Cabyle (Kabile), Deultum (Debelt), Nicopolis ad Nestum (Garmen), Pautalia (Kyustendil), Philippopolis (Plovdiv), Serdica (Sofia), and Augusta Traiana (Stara Zagora). Later coins may be found in A. Radushev and G. Zhekov, Catalogue of Bulgarian Medieval Coins IX-XV c. (Sofia 1999) and J. Youroukova and V. Penchev, Bulgarian Medieval Coins and Seals (Sofia 1990).

a. Pre-monetary media of exchange including “arrow money,” bells, and bracelets.

Approximate date: 13th century B.C. through 6th century B.C.

b. Thracian and Hellenistic coins struck in gold, silver, and bronze by city-states and kingdoms that operated in the territory of the modern Bulgarian state. This designation includes official coinages of Greek-using city-states and kingdoms, Scythian and Celtic coinage, and local imitations of official issues. Also included are Greek coins from nearby regions that are found in Bulgaria.

Approximate date: 6th century B.C. through 1st century B.C.

c. Roman provincial coins—Locally produced coins usually struck in bronze or copper at mints in the territory of the modern state of Bulgaria. May also be silver, silver plate, or gold.

Approximate date: 1st century B.C. through 4th century A.D.

d. Coinage of the First and Second Bulgarian Empires and Byzantine Empire—Struck in gold, silver, and bronze by Bulgarian and Byzantine emperors at mints within the modern state of Bulgaria.

Approximate date: 4th century A.D. through A.D. 1396.

e. Ottoman coins—Struck at mints within the modern state of Bulgaria.

Approximate date: A.D. 1396 through A.D. 1750.

C. Ceramic

1. Sculpture

a. Architectural Elements—Baked clay (terracotta) elements used to decorate buildings. Elements include tiles, acroteria, antefixes, painted and relief plaques, metopes, cornices, roof tiles, pipes, and revetments. May be painted as icons. Also included are wall and floor plaster decorations.

Approximate date: First millennium B.C. through A.D. 1750.

b. Large Statuary—Subject matter includes human and animal figures and groups of figures in the round. Common types are large-scale, free-standing statuary from approximately 1 m to 2.5 m in height and life-size busts (head and shoulders of an individual).

Approximate date: Neolithic through 6th century A.D.

c. Small Statuary—Subject matter is varied and includes human and animal figures, human body parts, groups of figures in the round, shrines, houses, and chariots. These range from approximately 10 cm to 1 m in height.

Approximate date: Neolithic through 6th century A.D.

2. Vessels

a. Neolithic and Chalcolithic Pottery—Handmade, decorated with appliqué and/or incision, sometimes decorated with a lustrous burnish or added paint. These come in a variety of shapes from simple bowls and vases with three or four legs, anthropomorphic and zoomorphic vessels, to handled scoops and large storage jars.

b. Bronze Age through Thracian Pottery—Handmade and wheel-made pottery in shapes for tableware, serving, storing, and processing, with lustrous burnished, matte, appliqué, incised, and painted decoration.

c. Black Figure and Red Figure Pottery—These are made in a specific set of shapes (e.g., amphorae, kraters, hydriae, oinochoi, kylikes) decorated with black painted figures on a clear clay ground (Black Figure), decorative elements in reserve with background fired black (Red Figure), and multi-colored figures painted on a white ground (White Ground).

Approximate date: First millennium B.C.

d. Terra Sigillata—Is a high-quality tableware made of red to reddish brown clay and covered with a glossy slip.

Approximate date: Roman.

e. Middle Ages Pottery—Includes undecorated plain wares, utilitarian wares, tableware, serving and storage jars, and special containers such as pilgrim flasks. These can be matte painted or glazed, including incised as “sgraffito,” stamped, and with elaborate polychrome decorations using floral, geometric, human, and animal motifs.

3. Seals—On the handles and necks of bottles (amphorae).

Approximate date: First millennium B.C. through Middle Ages.

D. Bone, Ivory, Horn, Wood, and other Organics

1. Small Statuary and Figurines—Subject matter includes human and animal figures and groups of figures in the round. These range from approximately 10 cm to 1 m in height.

Approximate date: Paleolithic through Middle Ages.

2. Personal Ornaments—In bone, ivory, wood, and spondylus shell. Types include amulets, combs, pins, spoons, small containers, bracelets, buckles, and beads.

Approximate date: Paleolithic through Middle Ages.

3. Seals and Stamps—Small devices with at least one side engraved with a design for stamping or sealing; they can be discoid, cuboid, conoid, or in the shape of animals or fantastic creatures (e.g., a scarab).

Approximate date: Neolithic through Middle Ages.

4. Tools and Weapons—In bone, horn, and wood. Needles, awls, chisels, axes, hoes, picks, and harpoons.

Approximate date: Paleolithic through Middle Ages.

E. Glass and Faience

1. Vessels—Shapes include small jars, bowls, animal shaped, goblet, spherical, candle holders, and perfume jars (unguentaria).

Approximate date: First millennium B.C. through A.D. 1750.

2. Beads—Globular and relief beads.

Approximate date: Bronze Age through Middle Ages.

F. Paintings

1. Domestic and Public Wall Painting—These are painted on mud plaster, lime plaster (wet—buon fresco—and dry—secco fresco); types include simple applied color, bands and borders, landscapes, scenes of people and/or animals in natural or built settings.

Approximate date: First millennium B.C. through A.D. 1750.

2. Tomb Paintings—Paintings on plaster or stone, sometimes geometric or floral but usually depicting gods, goddesses, or funerary scenes.

Approximate date: First millennium B.C. through 6th century A.D.

G. Mosaics—Floor mosaics including landscapes, scenes of humans or gods, and activities such as hunting and fishing. There may also be vegetative, floral, or decorative motifs.

Approximate date: First millennium B.C. through A.D. 1750.

II. Ecclesiastical Ethnological Material

The categories of Bulgarian ecclesiastical ethnological objects on which import restrictions are imposed were made from the beginning of the 4th century A.D. through approximately A.D. 1900.

A. Stone

1. Architectural Elements—In marble and other stone, including thrones, upright “closure” slabs, circular marking slabs (omphalion), altar partitions, and altar tables which may be decorated with crosses, human, or animal figures.

2. Monuments—In marble and other stone; types such as ritual crosses, funerary inscriptions.

3. Vessels—Containers for holy water.

4. Reliefs—In steatite or other stones, carved as icons in which religious figures predominate in the figural decoration.

B. Metal

1. Reliefs—Cast as icons in which religious figures predominate in the figural decoration.

2. Boxes—Containers of gold and silver, used as reliquaries for sacred human remains.

3. Vessels—Containers of lead, which carried aromatic oils and are called “pilgrim flasks.”

4. Ceremonial Paraphernalia—In bronze, silver, and gold including censers (incense burners), book covers, processional crosses, liturgical crosses, archbishop's crowns, buckles, and chests. These are often decorated with molded or incised geometric motifs or scenes from the Bible, and encrusted with semi-precious or precious stones. The gems themselves may be engraved with religious figures or inscriptions. Ecclesiastical treasure may include all of the above, as well as rings, earrings, and necklaces (some decorated with ecclesiastical themes) and other implements (e.g., spoons, baptism vessels, chalices).

C. Ceramic—Vessels which carried aromatic oils and are called “pilgrim flasks.”

D. Bone and Ivory Objects—Ceremonial paraphernalia including boxes, reliquaries (and their contents), plaques, pendants, candelabra, stamp rings, crosses. Carved and engraved decoration includes religious figures, scenes from the Bible, and floral and geometric designs.

E. Wood—Wooden objects include architectural elements such as painted wood screens (iconostases), carved doors, crosses, painted wooden beams from churches or monasteries, furniture such as thrones, chests, and other objects, including musical instruments. Religious figures predominate in the painted and carved figural decoration. Ecclesiastical furniture and architectural elements may also be decorated with geometric or floral designs.

F. Glass—Vessels of glass include lamps and candle sticks.

G. Textile—Robes, vestments and altar cloths are often of a fine fabric and richly embroidered in silver and gold. Embroidered designs include religious motifs and floral and geometric designs.

H. Parchment—Documents such as illuminated ritual manuscripts occur in single leaves or bound as a book or “codex” and are written or painted on animal skins (cattle, sheep/goat, camel) known as parchment.

I. Painting

1. Wall Paintings—On various kinds of plaster and which generally portray religious images and scenes of Biblical events. Surrounding paintings may contain animal, floral, or geometric designs, including borders and bands.

2. Panel Paintings (Icons)—Smaller versions of the scenes on wall paintings, and may be partially covered with gold or silver, sometimes encrusted with semi-precious or precious stones, and are usually painted on a wooden panel, often for inclusion in a wooden screen (iconostasis). May also be painted on ceramic.

J. Mosaics—Wall mosaics generally portray religious images and scenes of Biblical events. Surrounding panels may contain animal, floral, or geometric designs. They are made from stone and glass cut into small bits (tesserae) and laid into a plaster matrix.

Inapplicability of Notice and Delayed Effective Date

This rule involves a foreign affairs function of the United States and is, therefore, being made without notice or public procedure under 5 U.S.C. 553(a)(1). For the same reason, a delayed effective date is not required under 5 U.S.C. 553(d)(3).

Executive Orders 12866 and 13563

Executive Orders 12866 (as amended by Executive Order 14994) and 13563 direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. CBP has determined that this document is not a regulation or rule subject to the provisions of Executive Orders 12866 and 13563 because it pertains to a foreign affairs function of the United States, as described above, and therefore is specifically exempted by section 3(d)(2) of Executive Order 12866 and, by extension, Executive Order 13563.

Regulatory Flexibility Act

The Regulatory Flexibility Act (5 U.S.C. 601 et seq.), as amended by the Small Business Regulatory Enforcement Fairness Act of 1996, requires an agency to prepare and make available to the public a regulatory flexibility analysis that describes the effect of a proposed rule on small entities (i.e., small businesses, small organizations, and small governmental jurisdictions) when the agency is required to publish a general notice of proposed rulemaking for a rule. Since a general notice of proposed rulemaking is not necessary for this rule, CBP is not required to prepare a regulatory flexibility analysis for this rule.

Signing Authority

This regulation is being issued in accordance with 19 CFR 0.1(a)(1) pertaining to the Secretary of the Treasury's authority (or that of the Secretary's delegate) to approve regulations related to customs revenue functions.

Troy A. Miller, the Senior Official Performing the Duties of the Commissioner, having reviewed and approved this document, has delegated the authority to electronically sign this document to the Director (or Acting Director, if applicable) of the Regulations and Disclosure Law Division for CBP, for purposes of publication in the Federal Register.

List of Subjects in 19 CFR Part 12

Cultural property, Customs duties and inspection, Imports, Prohibited merchandise, and Reporting and recordkeeping requirements.

Amendment to the CBP Regulations

For the reasons set forth above, part 12 of title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (a) is amended by revising the entry for Bulgaria to read as follows:

§ 12.104g Specific items or categories designated by agreements or emergency actions.

(a) * * *

State party | Cultural property | Decision No.
* * * * * * *
Bulgaria | Archaeological material from Bulgaria ranging from approximately 1.6 million years ago through approximately A.D. 1750, and ecclesiastical ethnological material of Bulgaria ranging in date from the beginning of the 4th century A.D. through approximately A.D. 1900 | CBP Dec. 24-02.
* * * * * * *

* * * * *

Robert F. Altneu,
Director, Regulations & Disclosure Law Division, Regulations & Rulings, Office of Trade U.S. Customs and Border Protection.
Thomas C. West, Jr.,
Deputy Assistant Secretary of the Treasury for Tax Policy.

[FR Doc. 2024-00689 Filed 1-12-24; 8:45 am]

BILLING CODE 9111-14-P